DEPARTMENT OF TRANSPORTATION

Federal Highway Administration

Environmental Impact Statement Seattle, WA

AGENCY: Federal Highway Administration (FHWA), USDOT.

ACTION: Revised notice of intent.

SUMMARY: The FHWA is issuing this revised notice of intent to update the public, Tribes, and agencies of changes made to the previous notice of intent for a proposed highway project along SR 99 in Seattle, King County, Washington. The previous notice of intent was published in the Federal Register on September 26, 2003. It announced that a Draft Environmental Impact Statement (EIS) would be prepared for the Alaskan Way Viaduct and Seawall Replacement Project. The Draft EIS for the Alaskan Way Viaduct and Seawall Replacement Project was published March 31, 2004. Since the Draft EIS was issued, the project's purpose and need statement has been revised to include access and safety improvements from the Battery Street Tunnel north to Roy Street.

FOR FURTHER INFORMATION CONTACT: Megan Hall (FHWA) 711 South Capitol Way, Suite 501, Olympia, Washington, 98501 (telephone 360-753-8079); Kathryn Stenberg, WSDOT Urban Corridors Office, 999 Third Avenue, Suite 2424, Seattle, Washington, 98104 (telephone 206-382-5279).

SUPPLEMENTARY INFORMATION: The FHWA, Washington State Department of Transportation (WSDOT), in cooperation with the City of Seattle will prepare a supplemental draft EIS and a final environmental impact statement documenting the environmental impacts for improvements proposed along the existing SR 99 corridor now partially served by the Alaskan Way Viaduct and Alaskan Way Seawall located in downtown Seattle, King County, Washington. The Alaskan Way Viaduct is one of two primary north-south limited access routes through downtown Seattle and is a vital link in the region's roadway system. The Alaskan Way Seawall provides supports for the soils that hold up the viaduct's foundations.

Since the previous notice of intent, the lead agencies have revised the project's purpose and need statement to address the need for safety and access improvements to the SR 99 corridor from the Battery Street Tunnel north to Roy Street.

The revised purpose and need statement for the project is provided below:

The purpose of the proposed action is to provide a transportation facility and seawall with improved earthquake resistance. The project will maintain or improve mobility, accessibility, and traffic safety for people and goods along the existing Alaskan Way Viaduct Corridor as well as improve access to and from SR 99 from the Battery Street Tunnel north to Roy Street. The southern terminus of the project would be approximately Spokane Street. The north terminus would be Roy Street north of the existing Battery Street Tunnel.

The Alaskan Way Viaduct and Alaskan Way Seawall are both at the end of their useful life. Improvements to both are required to protect public safety and maintain the transportation corridor. Because these facilities are at risk of sudden and catastrophic failure in an earthquake, FHWA, WSDOT and the City of Seattle seek to implement these improvements as quickly as possible. Improvements between the Battery Street Tunnel and Roy Street will be needed to improve access to and from SR 99 and to improve local street connections once the viaduct is replaced. FHWA, WSDOT and the City of Seattle have identified the following underlying needs the project should address: seismic vulnerability, traffic safety, roadway design deficiencies, and bicycle and pedestrian safety and accessibility.

Issued on: April 1, 2005.
Mary E. Gray,
Environmental Program Specialist, Olympia, Washington.

[FR Doc. 05-15270 Filed 8-2-05; 8:45 am]

BILLING CODE 4910-22-M